SMALL BUSINESS ADMINISTRATION

Data Collection Available for Public Comments

ACTION: 60 Day Notice and request for comments.

SUMMARY: In accordance with the Paperwork Reduction Act of 1995, this notice announces the Small Business Administration's intentions to request approval on a new and/or currently approved information collection.

DATES: Submit comments on or before October 7, 2013.

ADDRESSES: Send all comments regarding whether this information collection is necessary for the proper performance of the function of the agency, whether the burden estimates are accurate, and if there are ways to minimize the estimated burden and enhance the quality of the collection, to Kirk McElwain, Director, Office of Communications, Small Business Administration, 409 3rd Street SW. 7TH Floor, Washington DC 20416.

FOR FURTHER INFORMATION CONTACT: Kirk McElwain, Director, 202-205-6175 kirk.mcelwain@sba.gov Curtis B. Rich, Management Analyst, 202-205-7030, curtis.rich@sba.gov.

Title: ”SBA Direct and SBA Online Community”.

Abstract: The SBA.gov audience is not to submit their information to browse the Web site. The information collection is a voluntary option given to the audience members. The information collected assists with tailoring only the relevant information to the audience member's specific needs, Information is also collected to allow users of the site to create a unique user identification, which allows the ability to store information, contribute information, and interact with SBA and other users of the site.

Description of Respondents: SBA Web site users.

Form Number: N/A.

Annual Responses: 710,000.

Annual Burden: 4,000.

Curtis Rich,
Management Analyst.

[FR Doc. 2013-18904 Filed 8-5-13; 8:45 am]

BILLING CODE P